DEPARTMENT OF HOMELAND SECURITY

Coast Guard

33 CFR Part 165

[CGD13-04-046]

RIN 1625-AA87

Security Zone; Protection of Military Cargo, Captain of the Port Zone, Puget Sound, WA

AGENCY: Coast Guard, DHS.

ACTION: Final rule; correction.

SUMMARY: The Coast Guard Captain of the Port Puget Sound published in the Federal Register of December 10, 2004, a final rule concerning security zones for the protection of military cargo loading and unloading operations in the navigable waters of Puget Sound. Wording in § 165.1321(c)(3) is being corrected to fix a typographical error in the longitude of the first point listed in the security zone. This document makes this correction.

DATES: This rule is effective January 12, 2005.

FOR FURTHER INFORMATION CONTACT: LTJG T. Thayer, c/o Captain of the Port, Puget Sound, 1519 Alaskan Way South, Seattle, WA 98134, (206) 217-6232.

SUPPLEMENTARY INFORMATION: The Coast Guard published a document in the Federal Register on December 10, 2004 (69 FR 71709), which amended 33 CFR 165.1321 by adding Budd Inlet, Olympia, WA as a permanent security zone. In this document, paragraph (c)(3) of the regulatory text contained a typographical error in the longitude of the first point listed in the security zone. The existing, accompanying description of this point as “approximately the northwestern end of the fence line enclosing Berth 1 at Port of Olympia” is correct. This correction merely amends the erroneous longitude coordinate in the regulatory text.

In rule FR Doc. 04-27213 published on December 10, 2004 (69 FR 71709), make the following correction.

§ 165.1317 [Amended]

On page 71711, starting on the fifth line in paragraph (c)(3), remove the phrase “47°03′12″ N, 122°25′21″ W” and add, in its place, the phrase “47°03′12″ N, 122°54′21″ W”.

Dated: December 29, 2004.
Danny Ellis,
Captain, U. S. Coast Guard, Captain of the Port, Puget Sound.

[FR Doc. 05-546 Filed 1-11-05; 8:45 am]

BILLING CODE 4910-15-P